SURFACE TRANSPORTATION BOARD

60-Day Notice of Intent To Seek Extension of Approval of Collection: Statutory Authority To Preserve Rail Service

AGENCY: Surface Transportation Board.

ACTION: Notice and request for comments.

SUMMARY: As part of its continuing effort to reduce paperwork burdens, and as required by the Paperwork Reduction Act of 1995 (PRA), the Surface Transportation Board (Board) gives notice of its intent to request from the Office of Management and Budget (OMB) approval without change of the existing collection, Preservation of Rail Service, OMB Control No. 2140-0022, as described below.

DATES: Comments on this information collection should be submitted by January 13, 2023.

ADDRESSES: Direct all comments to Chris Oehrle, PRA Officer, Surface Transportation Board, 395 E Street SW, Washington, DC 20423-0001, or to PRA@stb.gov. When submitting comments, please refer to “Paperwork Reduction Act Comments, Statutory Authority to Preserve Rail Service.” For further information regarding this collection, contact Mike Higgins at (866) 254-1792 (toll-free) or 202-245-0238, or by emailing rcpa@stb.gov. Assistance for the hearing impaired is available through the Federal Information Relay Service (FIRS) at 1-800-877-8339.

SUPPLEMENTARY INFORMATION: Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and summarized in the Board's request for OMB approval.

Subjects: In this notice, the Board is requesting comments on the extension of the following information collection:

Description of Collection

Title: Preservation of Rail Service.

OMB Control Number: 2140-0022.

STB Form Number: None.

Type of Review: Extension without change.

Respondents: Affected shippers, communities, or other interested persons seeking to preserve rail service over rail lines that are proposed or identified for abandonment, and railroads that are required to provide information to the offeror or applicant: Approximately 25.

Frequency: On occasion, as follows:

Table—Number of Yearly Responses
Type of filing | Estimated annual average number of filings (2019-2021)
Offer of Financial Assistance (and related filings) | 1
Request for Public Use Condition | 1
Feeder Line Application | 1
Trail Use Request (with extensions) | 17

Total Burden Hours (annually including all respondents): 205 hours (total of estimated hours per response × number of responses for each type of filing).

Table—Estimated Total Burden Hours
Type of filing | Estimated annual average number of filings (2019-2021) | Number of hours per response | Total estimated burden hours
Offer of Financial Assistance (and related filings) | 1 | 46 | 46
Request for Public Use Condition | 1 | 4 | 4
Feeder Line Application | 1 | 70 | 70
Trail Use Request (with extensions) | 17 | 5 | 85
Total burden hours |  |  | 205

Total “Non-hour Burden” Cost: None identified. Filings may be submitted electronically to the Board.

Needs and Uses: The Surface Transportation Board is, by statute, responsible for the economic regulation of common carrier freight railroads and certain other carriers operating in the United States. Under the laws the Board administers, persons seeking to preserve rail service may file pleadings before the Board to acquire or subsidize a rail line for continued service, or to impose a trail use or public use condition.

When a line is proposed for abandonment, affected shippers, communities, or other interested persons may seek to preserve rail service by filing with the Board: an offer of financial assistance (OFA) to subsidize or purchase a rail line for which a railroad is seeking abandonment (49 U.S.C. 10904), including a request for the Board to set terms and conditions of the financial assistance; a request for a public use condition (section 10905); or a trail use request (16 U.S.C. 1247(d)). Similarly, when a line is placed on a system diagram map identifying it as an anticipated or potential candidate for abandonment, affected shippers, communities, or other interested persons may seek to preserve rail service by filing with the Board a feeder line application to purchase the identified rail line (§ 10907). Additionally, the railroad owning the rail line subject to abandonment must, in some circumstances, provide information to the applicant or offeror.

As to trail use, the STB will issue a CITU or NITU to a prospective trail sponsor who seeks an interim trail use agreement with the rail carrier of the rail line that is being abandoned. The CITU/NITU permits parties to negotiate for an interim trail use agreement. The parties may also agree to an extension of the negotiating period. If parties reach an agreement, then they must jointly notify the Board of that fact and of any modification or vacancy of the agreement. There is a one-year period for any initial interim trail use negotiating period (with potential extensions).

The Board makes this submission because, under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: November 14, 2022.
Jeffrey Herzig,
Clearance Clerk.

[FR Doc. 2022-25073 Filed 11-16-22; 8:45 am]

BILLING CODE 4915-01-P